DEPARTMENT OF TRANSPORTATION

Federal Aviation Administration

14 CFR Part 39

[Docket No. 2001-NM-87-AD; Amendment 39-12200; AD 2001-08-23]

RIN 2120-AA64

Airworthiness Directives; Boeing Model 767-200 Series Airplanes

AGENCY: Federal Aviation Administration, DOT.

ACTION: Final rule; request for comments.

SUMMARY: This amendment adopts a new airworthiness directive (AD) that is applicable to certain Boeing Model 767-200 series airplanes. This action requires repetitive inspections for cracking of the outboard pitch load fittings of the wing front spar, and corrective action, if necessary. This action also provides a terminating action for the repetitive inspections, which is optional for uncracked pitch load fittings. This action is necessary to find and fix cracking of the outboard pitch load fittings of the wing front spar, which could lead to loss of the upper link load path and result in separation of the strut and engine from the airplane. This action is intended to address the identified unsafe condition.

DATES: Effective May 14, 2001.

The incorporation by reference of certain publications listed in the regulations is approved by the Director of the Federal Register as of May 14, 2001.

Comments for inclusion in the Rules Docket must be received on or before June 26, 2001.

ADDRESSES: Submit comments in triplicate to the Federal Aviation Administration (FAA), Transport Airplane Directorate, ANM-114, Attention: Rules Docket No. 2001-NM-87-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-87-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: John Craycraft, Aerospace Engineer, Airframe Branch, ANM-120S, FAA, Seattle Aircraft Certification Office, 1601 Lind Avenue, SW., Renton, Washington 98055-4056; telephone (425) 227-2782; fax (425) 227-1181.

SUPPLEMENTARY INFORMATION: The FAA has received reports that fatigue cracking of the outboard pitch load fittings on the wing front spar has been found on certain Boeing Model 767-200 series airplanes. Recently, the FAA has received new reports that such fatigue cracking was found on four out of seven inspected airplanes. The outboard pitch load fittings on the wing front spar are part of the upper link load path. Such cracking, if not corrected, could lead to loss of the upper link load path and result in separation of the strut and engine from the airplane.

Explanation of Relevant Service Information

The FAA has reviewed and approved Boeing Service Bulletin 767-57A0070, Revision 1, dated November 16, 2000, which describes procedures for repetitive high frequency eddy current (HFEC) inspections for cracking of the outboard pitch load fitting of the wing front spar on the left and right sides of the airplane, and corrective action, if necessary. The corrective action involves rework or replacement of cracked parts. The service bulletin also describes procedures for replacement of the outboard pitch load fittings with new fittings of improved design. These procedures include an HFEC inspection for damage of fastener holes, and repair of damaged fastener holes (if necessary). Installation of new, improved fittings eliminates the need for the repetitive inspections described in the service bulletin.

Boeing Service Bulletin 767-57A0070, Revision 1, refers to Boeing Service Bulletin 767-57-0053 as an additional source of service information for accomplishment of the replacement of the outboard pitch load fitting on Model 767-200 series airplanes.

Explanation of the Requirements of the Rule

Since an unsafe condition has been identified that is likely to exist or develop on other airplanes of the same type design, this AD is being issued to find and fix cracking of the outboard pitch load fittings of the wing front spar, which could lead to loss of the upper link load path and result in separation of the strut and engine from the airplane. This AD requires accomplishment of the actions specified in Boeing Service Bulletin 767-57A0070, Revision 1, described previously, except as discussed below.

Differences Between This AD and Service Bulletin

This AD differs from Boeing Service Bulletin 767-57A0070, Revision 1, in the following ways:

• The service bulletin instructs that the manufacturer should be contacted for rework instructions. However, this AD requires such rework to be accomplished per a method approved by the FAA, or per data meeting the type certification basis of the airplane approved by a Boeing Company Designated Engineering Representative who has been authorized by the Manager of the Seattle Aircraft Certification Office, to make such findings.

• The service bulletin specifies a compliance time of 180 days after receipt of the service bulletin for accomplishment of the initial inspection per that service bulletin. However, this AD requires accomplishment of the initial inspection within 30 days after the effective date of this AD. In developing an appropriate compliance time for this AD, the FAA considered not only the manufacturer's recommendation, but the degree of urgency associated with addressing the subject unsafe condition, and, in particular, the recent reports indicating that cracked pitch load fittings were found on four of seven inspected airplanes. In light of all of these factors, the FAA finds a 30-day compliance time for completing the required inspection to be warranted, in that it represents an appropriate interval of time allowable for affected airplanes to continue to operate without compromising safety.

Interim Action

This is considered to be interim action. The FAA is currently considering requiring the replacement of the outboard pitch load fitting of the wing front spar with a new, improved fitting, which is provided in this AD as optional for uncracked pitch load fittings, and which would terminate the repetitive inspections required by this AD action. However, the planned compliance time for the replacement is sufficiently long so that notice and opportunity for prior public comment will be practicable.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-87-AD.” The postcard will be date-stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-23 Boeing: Amendment 39-12200. Docket 2001-NM-87-AD.

Applicability: Model series airplanes, as listed in Boeing Service Bulletin 767-57A0070, Revision 1, dated November 16, 2000, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To find and fix cracking of the outboard pitch load fittings of the wing front spar, which could lead to loss of the upper link load path and result in separation of the strut and engine from the airplane, accomplish the following:

Initial and Repetitive Inspections

(a) Within 30 days after the effective date of this AD, perform a high frequency eddy current (HFEC) inspection for cracking of the outboard pitch load fitting of the wing front spar, on the left and right sides of the airplane, according to Boeing Service Bulletin 767-57A0070, Revision 1, dated November 16, 2000. If no cracking is found, repeat the inspection at least every 3,000 flight cycles or 18 months, whichever occurs first, until paragraph (c) of this AD is done.

Note 2: Inspections done prior to the effective date of this AD, in accordance with Boeing Service Bulletin 767-57A0070, dated March 2, 2000, as revised by Information Notice 767-57A0070 IN 01, dated March 23, 2000, are considered acceptable for compliance with paragraph (a) of this AD.

Corrective Action

(b) If any cracking is found during any inspection per paragraph (a) of this AD, prior to further flight, do paragraph (b)(1) or (b)(2) of this AD.

(1) Rework the cracked outboard pitch load fitting according to a method approved by the Manager, Seattle Aircraft Certification Office (ACO), FAA; or according to data meeting the type certification basis of the airplane approved by a Boeing Company Designated Engineering Representative who has been authorized by the Manager, Seattle ACO, to make such findings. For a rework method to be approved by the Manager, Seattle ACO, as required by this paragraph, the Manager's approval letter must specifically reference this AD.

(2) Replace the cracked outboard pitch load fitting with a new, improved fitting (including removing the existing fittings, performing an HFEC inspection for damage of fastener holes, repairing damaged fastener holes—if necessary, and installing new fittings of improved design), according to Boeing Service Bulletin 767-57A0070, Revision 1, dated November 16, 2000. Such replacement terminates the repetitive inspections required by paragraph (a) of this AD for the replaced fitting.

Note 3: Boeing Service Bulletin 767-57A0070, Revision 1, refers to Boeing Service Bulletin 767-57-0053 as an additional source of service information for accomplishment of the replacement of the outboard pitch load fitting on Model 767-200 series airplanes.

Optional Terminating Action

(c) Replacement of the outboard pitch load fitting of the wing front spar with a new, improved fitting, according to Boeing Service Bulletin 767-57A0070, Revision 1, dated November 16, 2000, terminates the repetitive inspections required by paragraph (a) of this AD for the replaced fitting.

Spares

(d) As of the effective date of this AD, no one may install on any airplane an outboard pitch load fitting that has a part number listed in the “Existing Part Number” column of Paragraph 2.E. of Boeing Service Bulletin 767-57A0070, Revision 1, dated November 16, 2000.

Alternative Methods of Compliance

(e) An alternative method of compliance or adjustment of the compliance time that provides an acceptable level of safety may be used if approved by the Manager, Seattle ACO. Operators shall submit their requests through an appropriate FAA Principal Maintenance Inspector, who may add comments and then send it to the Manager, Seattle ACO.

Note 4: Information concerning the existence of approved alternative methods of compliance with this AD, if any, may be obtained from the Seattle ACO.

Special Flight Permits

(f) Special flight permits may be issued in accordance with sections 21.197 and 21.199 of the Federal Aviation Regulations (14 CFR 21.197 and 21.199) to operate the airplane to a location where the requirements of this AD can be accomplished.

Incorporation by Reference

(g) Except as provided by paragraph (b)(1) of this AD, the actions shall be done in accordance with Boeing Service Bulletin 767-57A0070, Revision 1, dated November 16, 2000. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(h) This amendment becomes effective on May 14, 2001.

Issued in Renton, Washington, on April 18, 2001.
Donald L. Riggin,
Acting Manager, Transport Airplane Directorate, Aircraft Certification Service.

[FR Doc. 01-10176 Filed 4-26-01; 8:45 am]

BILLING CODE 4910-13-P